DEPARTMENT OF THE TREASURY

Internal Revenue Service

26 CFR Part 1

[TD 9191]

RIN 1545-BD16

Time and Manner of Making Section 163(d)(4)(B) Election To Treat Qualified Dividend Income as Investment Income; Correction

AGENCY: Internal Revenue Service (IRS), Treasury.

ACTION: Removal of temporary regulations.

SUMMARY: This document contains a correction to a temporary regulation (TD 9191) that was published in the Federal Register on Friday, March 18, 2005 (70 FR 13100), relating to the time and manner of making section 163(d)94)(B) election to treat qualified dividend income as investment income.

DATES: This correction is effective March 18, 2005.

FOR FURTHER INFORMATION CONTACT: Amy Pfalzgraf, (202) 622-4950 (not a toll-free number).

SUPPLEMENTARY INFORMATION:

Background

The final regulation (TD 9191) that is the subject of this correction is under section 163 of the Internal Revenue Code.

Need for Correction

As published, TD 9191, contains an error that may prove to be misleading and is in need of clarification.

List of Subjects in 26 CFR Part 1

Income taxes, Reporting and recordkeeping requirements.

Correction of Publication

Accordingly, 26 CFR part 1 is corrected by making the following correcting amendment:

PART 1—INCOME TAXES

Paragraph 1. The authority citation for part 1 continues to read as follows:

Authority: 26 U.S.C. 7805 * * *

§ 1.163(d)-1T [Removed]

Section 1.163(d)-1T is removed.

Guy R. Traynor,
Chief, Publications & Regulations Branch, Legal Processing Division, Associate Chief Counsel, (Procedures & Administration).

[FR Doc. 06-3473 Filed 4-11-06; 8:45 am]

BILLING CODE 4830-01-P